DEPARTMENT OF ENERGY

Federal Energy Regulatory Commission

Notice of Preliminary Permit Application Accepted for Filing and Soliciting Comments, Motions To Intervene, and Competing Applications

July 22, 2008.

| Project No.
FFP Missouri 5, LLC | 13183-000
FFP Missouri 6, LLC | 13184-000

On April 18, 2008, FFP Missouri 5, LLC and FFP Missouri 6, LLC (Free Flow Power Corporation) each filed an application, pursuant to section 4(f) of the Federal Power Act, proposing to study the feasibility of the Missouri River 5 and the Missouri River 6 Projects, to be located in the Missouri River in St. Charles and St. Louis Counties, Missouri.

The proposed Missouri River 5 project consists of: (1) 3,420 proposed 20-kilowatt Free Flow generating units having a total installed capacity of 68.4-megawatts, (2) a mooring system, (3) a proposed transmission line, and (4) appurtenant facilities. The proposed Missouri River Project 5 would have an average annual generation of 299,592-gigawatt-hours and be sold to a local utility.

The proposed Missouri River 6 project consists of: (1) 2,280 proposed 20-kilowatt Free Flow generating units having a total installed capacity of 45.6-megawatts, (2) a mooring system, (3) a proposed transmission line, and (4) appurtenant facilities. The proposed Missouri River Project 4 would have an average annual generation of 199,728-gigawatt-hours and be sold to a local utility.

Applicant Contact: Mr. Daniel R. Irwin, Free Flow Power Corporation, 33 Commercial Street, Gloucester, MA 01930, phone: 978-232-3536.

FERC Contact: Patricia W. Gillis (202) 502-8735.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13183 or P-13184) in the docket number field to access the document. For assistance, call toll-free 1-866-208-3372.

Kimberly D. Bose,
Secretary.

[FR Doc. E8-17286 Filed 7-28-08; 8:45 am]

BILLING CODE 6717-01-P